AGENCY FOR INTERNATIONAL DEVELOPMENT

22 CFR Part 226

RIN 0412-AA65

Administration of Assistance Awards to U.S. Non-Governmental Organizations; Correction to Financial Reporting for Grants and Cooperative Agreements

AGENCY: Agency for International Development.

ACTION: Technical amendment.

SUMMARY: This document contains an amendment to the regulations published as an interim final rule in the Federal Register of Thursday, January 19, 1995, (60 FR 3743). The rule relates to the administration of assistance awards to U.S. Non-Governmental Organizations.

DATES: Effective on October 8, 2009.

FOR FURTHER INFORMATION CONTACT: Michael Gushue, Telephone: 202-712-5831, E-mail: mgushue@usaid.gov.

SUPPLEMENTARY INFORMATION:

Background

On January 19, 1995, USAID issued an interim final rule at 22 CFR part 226 which implemented Office of Management and Budget (OMB) Circular A-110.

Need for Amendment

As published, the regulation unduly limits the use of financial reporting forms to Standard Form 269 and Standard Form 270. The purpose of the amendment is to relieve this restriction and allow any such forms as OMB approves. OMB now requires Federal Agencies to use the Federal Financial Report (Standard Form 425 or 425a) to give recipients of grants and cooperative agreements a standard format for reporting the financial status of their grants and cooperative agreements (68 FR 17097, 73 FR 47246).

List of Subjects in 22 CFR Part 226

Grants administration.

Accordingly, 22 CFR part 226 is amended by making the following technical amendment:

PART 226—ADMINISTRATION OF ASSISTANCE AWARDS TO U.S. NON-GOVERNMENTAL ORGANIZATIONS

1. The authority citation for part 226 continues to read as follows:

Authority: 22 U.S.C. 2381(a) and 2401.

2. Revise § 226.52 to read as follows:

§ 226.52 Financial reporting.

USAID requires recipients to use the Standard Form 425 or Standard Form 425a, Federal Financial Report, or such other forms authorized for obtaining financial information as may be approved by OMB.

Drew Luten,
Acting Assistant Administrator, Bureau for Management, USAID.

[FR Doc. E9-23680 Filed 10-7-09; 8:45 am]

BILLING CODE 6116-01-P